DEPARTMENT OF DEFENSE

Department of the Air Force

[ARL-250221B-PL]

Notice of Intent To Grant an Exclusive Patent License

AGENCY: Department of the Air Force, DoD.

ACTION: Notice of intent.

SUMMARY: Pursuant to the Bayh-Dole Act and implementing regulations, the Department of the Air Force hereby gives notice of its intent to grant an exclusive patent license to Kennon Products, Inc., a corporation of the state of Wyoming having a place of business at 1100 Hi Tech Dr., Sheridan, WY 82801.

DATES: Written objections must be filed no later than fifteen (15) calendar days after the date of publication of this notice in the Federal Register.

ADDRESSES: Submit written objections to Rachel Bankowitz, DAF Office of Research and Technology Applications (ORTA), 1864 4th Street, Bldg. 15, Room 225, Wright-Patterson AFB, OH 45433; Email: rachel.bankowitz.ctr@us.af.mil. Include Docket No. ARL-250221B-PL in the subject line of the message.

FOR FURTHER INFORMATION CONTACT: Rachel Bankowitz, DAF Office of Research and Technology Applications (ORTA), 1864 4th Street, Bldg. 15, Room 225, Wright-Patterson AFB, OH 45433; Phone: (937) 572-6750; or Email: rachel.bankowitz.ctr@us.af.mil.

SUPPLEMENTARY INFORMATION:

Abstract of Patent Application(s)

A cover for an aircraft opening or equipment formed from a collapsible material having programmable magnets encapsulated on at least one edge portion to adhere the cover to an aircraft surface is provided. The programmable magnets have a close field strength sufficient to maintain the cover in place during high winds while not damaging the aircraft surface coatings during installation and removal while not interfering with electric signals or nearby electrical equipment.

Intellectual Property

U.S. Patent No. 11,772,812 B1, issued on October 3, 2023, and entitled Magnetic Mobile Aircraft Cover.

U.S. Patent Application No. 18/235,988, filed on August 21, 2023, and entitled Magnetic Mobile Aircraft Cover.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR part 404)

Tommy W. Lee,
Acting Air Force Federal Register Liaison Officer.

[FR Doc. 2025-06295 Filed 4-11-25; 8:45 am]

BILLING CODE 3911-44-P